DEPARTMENT OF TRANSPORTATION

Federal Aviation Administration

Notice of Availability, Notice of Public Comment Period and Request for Comment on the Draft Environmental Assessment in Support of the Application for a Supersonic Flight Waiver for Boom Technology XB-1 Supersonic Test Flights

AGENCY: Federal Aviation Administration (FAA), Department of Transportation (DOT).

ACTION: Notice of availability, notice of public comment period and request for comment.

SUMMARY: This Environmental Assessment (EA) has been prepared to satisfy National Environmental Policy Act (NEPA) requirements (authorization to operate at supersonic speeds). This EA addresses the environmental impacts of proposed supersonic operations within the pre-existing supersonic corridors, as well as the effects of the associated landing and takeoff (LTO) operations at Mojave Air and Space Port. The proposed supersonic flight operations evaluated in this EA would consist of a limited number of test flights (10-20 supersonic tests of the XB-1 and its chase aircraft) occurring within a one-year duration.

DATES: Comments must be submitted to 9-APL-AEE-NEPA-Comments@faa.gov and received on or before February 2, 2024.

ADDRESSES:

Mail: Comments should be mailed to Ms. Michon Washington at 800 Independence Avenue SW, Suite 900W, Washington, DC 20591. Comments may also be submitted electronically to 9-APL-AEE-NEPA-Comments@faa.gov.

FOR FURTHER INFORMATION CONTACT: For EA questions contact Ms. Michon Washington, Environmental Protection Specialist, Federal Aviation Administration, 800 Independence Avenue SW, Suite 900W, Washington, DC 20591; phone (202) 267-9310; email michon.washington@faa.gov. For Special Flight Authorization or noise questions, contact Mr. Sandy Liu, General Engineer, Federal Aviation Administration, 800 Independence Avenue SW, Suite 900W, Washington, DC 20591; phone (202) 267-4748; email Sandy.Liu@faa.gov. The Environmental Assessment can be electronically accessed at https://www.faa.gov/about/office_org/headquarters_offices/apl/aee/env_policy/sfa_supersonic.

SUPPLEMENTARY INFORMATION: The FAA is evaluating BOOM's request for a Special Flight Authorization (SFA) waiver under 14 CFR 91.817-818 (“Special flight authorization to exceed Mach 1”) that restricts civilian supersonic operations over land in the U.S. Boom plans to operate XB-1 from Mojave Air and Space Port (MHV) subsonically, and only fly supersonically within pre-existing supersonic corridors; thus, Boom is requesting this waiver for limited supersonic flight operations within the confines of the pre-existing supersonic corridors within the R-2508 Airspace Complex that are used for daily military aircraft supersonic testing. The Environmental Assessment complies with Federal, Aviation Administration (FAA) Order 1050.1F Environmental Impacts: Policies and Procedures and its accompanying Desk Reference as well as U.S. Department of Transportation Order 5610.1C Procedures for Considering Environmental Impacts.

The FAA encourages all interested parties to provide comments concerning the scope and content of the Draft PEA. Before including your address, phone number, email address, or other personal identifying information in your comment, be advised that your entire comment—including your personal identifying information—may be made publicly available at any time. While you can ask the FAA in your comment to withhold from public review your personal identifying information, the FAA cannot guarantee that we will be able to do so.

Issued in Washington, DC, on: January 9, 2024.
Donald S. Scata Jr,
Deputy Director (A), Office of Environment and Energy, Office of Policy, International Affairs and Environment.

[FR Doc. 2024-00575 Filed 1-11-24; 8:45 am]

BILLING CODE 4910-13-P